NATIONAL CREDIT UNION ADMINISTRATION

Sunshine Act; Notice of a Matter To Be Added to the Agenda for Consideration at an Agency Meeting

Time and Date: 10 a.m., Thursday, September 24, 2009.

Place: Board Room, 7th Floor, Room 7047, 1775 Duke Street, Alexandria, VA 22314-3428.

Status: Open.

Matter to be Added: 2a. Revisions to Temporary Corporate Credit Union Liquidity Guarantee Program.

Time and Date: 11:15 a.m., Thursday, July 16, 2009.

Place: Board Room, 7th Floor, Room 7047, 1775 Duke Street, Alexandria, VA 22314-3428.

Status: Closed.

Matters to be Added: 1. Consideration of Supervisory Activity. Closed pursuant to exemptions (8), (9)(A)(ii) and 9(B).

FOR FURTHER INFORMATION CONTACT: Mary Rupp, Secretary of the Board, Telephone: 703-518-6304.

Mary Rupp,
Board Secretary.

[FR Doc. E9-23223 Filed 9-22-09; 4:15 pm]

BILLING CODE 7535-01-P